FEDERAL COMMUNICATIONS COMMISSION

47 CFR Parts 0, 1, 61 and 69

[CC Docket No. 96-262; DA 00-2866]

CLEC Access Charge Reform

AGENCY: Federal Communications Commission.

ACTION: Proposed rule; extension of comment period.

SUMMARY: This document extends the deadline for filing comments in an ongoing FCC proceeding considering whether and how to reform the manner in which competitive local exchange carriers (CLECs) may tariff the charges for the switched local exchange access service that they provide to inter-exchange carriers (IXCs).

DATES: Submit comments on or before January 11, 2001. Submit reply comments on or before January 26, 2001.

ADDRESSES: Send comments to Magalie Roman Salas, Office of the Secretary, Federal Communications Commission, 445 Twelfth St., S.W., Room TW-A325, Washington, DC 20554. Or comments may be filed electronically via the Internet at <http://www.fcc.gov/e-file/ecfs.html>.

FOR FURTHER INFORMATION CONTACT: Scott K. Bergmann, 202-418-0940, or Jeffrey H. Dygert, 202-418-1500.

SUPPLEMENTARY INFORMATION: On December 20, 2000, the FCC's Common Carrier Bureau (the Bureau) granted a motion for extension of time for parties to file comments and reply comments in response to Public Notice in CC Docket No. 96-262. Common Carrier Bureau Grants Motion for Limited Extension of Time for Filing Comments and Reply Comments on Issues Relating to CLEC Access Charge Reform, Public Notice, CC Docket No. 96-262, DA 00-2866 (rel. Dec. 20, 2000). This document summarizes that Public Notice.

On December 7, 2000, the Bureau released a Public Notice in CC Docket No. 96-262 inviting comment on issues related to CLEC access charge reform. Common Carrier Bureau Seeks Additional Comment on Issues Relating to CLEC Access Charge Reform, Public Notice, 65 FR 77545, DA 00-2751, CC Docket No. 96-262 (pub. Dec. 12, 2000) (CLEC Access Charge Reform Notice). Pursuant to the CLEC Access Charge Reform Notice, parties were required to file comments on or before December 27, 2000 and reply comments on or before January 11, 2001.

On December 14, 2000, Allegiance Telecom, Inc. filed a Motion for Extension of Time to extend the dates for filing comments and reply comments in response to the Public Notice. In its pleading, Allegiance requests that the deadlines for filing comments and reply comments be extended by fifteen (15) days.

It is the policy of the Commission that extensions of time are not routinely granted. In this instance, however, the Bureau finds that Allegiance has shown good cause for an extension of the deadline for filing comments and reply comments in this proceeding. Accordingly, interested parties may now file comments on or before January 11, 2001 and reply comments on or before January 26, 2001. This matter shall continue to be treated as a “permit-but-disclose” proceeding in accordance with the Commission's ex parte rules. 47 CFR. 1.1200, 1206. All other requirements discussed in the CLEC Access Charge Reform Notice in this proceeding remain in effect.

List of Subjects

47 CFR Part 0

Organization and functions.

47 CFR Part 1

Administrative practice and procedures, Communications common carrier, telecommunications.

47 CFR Part 61

Communications common carriers, Tariffs.

47 CFR Part 69

Communications common carriers, Access charges.

Federal Communications Commission.
William F. Caton,
Deputy Secretary.

[FR Doc. 00-32926 Filed 12-26-00; 8:45 am]

BILLING CODE 6712-01-U